DEPARTMENT OF JUSTICE

Notice of Lodging of Consent Decree Pursuant to the Comprehensive Environmental Response, Compensation, and Liability Act of 1980, As Amended

Consistent with Departmental policy, 28 CFR 50.7, 38 FR 19029, and 42 U.S.C. 9622(d), notice is hereby given that on October 31, 2001, a proposed Consent Decree in United States v. Ponderosa Fibres of America, Inc., et al., Civil Action No. 99-CV-1305, was lodged with the United States District Court for the Northern District of New York. The proposed Consent Decree will resolve potential claims by the United States, on behalf of the United States Environmental Protection Agency (“EPA”), against Third-Party Defendant The Bank of New York (“BNY”), under the Comprehensive Environmental Response, Compensation, and Liability Act of 1980, as amended (“CERCLA”), 42 U.S.C. 9601-9675(c), relating to the St. Lawrence Pulp and Paper Superfund Site, located in the City of Ogdensburg, St. Lawrence County, New York (“Site”). The Amended Complaint in this action alleges, inter alia, that First-Party Defendant Ponderosa Fibres of America, Inc. (“PFA”) is jointly and severally liable, under Section 107 of CERCLA, 42 U.S.C. 9607, for the United States' environmental response costs related to the Site. A Third-Party Complaint by PFA alleges that BNY is liable for Site-related response costs under Section 113(f) of CERCLA, 42 U.S.C. 9613(f).

Pursuant to the Consent Decree, the settling defendant agrees to pay the United States $71,250, plus interest accruing from November 15, 2001 through the date of payment, in reimbursement of response costs incurred by the United States in connection with the Site.

For a period of thirty (30) days after the date of publication of this Notice, the United States Department of Justice will receive comments relating to the proposed Consent Decree. Any comments should be addressed to the Assistant Attorney General of the Environment and Natural Resources Division, U.S. Department of Justice, P.O. Box 7611, Washington, DC 20044-7611, and should include references to the case name, United States v. Ponderosa Fibres of America, Inc., et al., Civil Action No. 99-CV-1305, and to the Department of Justice case number, “DJ #90-11-2-1223.”

The proposed Consent Decree may be examined at the offices of the United States Attorney, Northern District of New York, James T. Foley Courthouse, 445 Broadway, Albany, New York 12207, and at the offices of the United States Environmental Protection Agency, Region II, 290 Broadway, New York, New York 10007-1866. With any request for a copy of the Consent Decree, please enclose a check in the amount of $4.75 ($0.25 per page) payable to the “Consent Decree Library.”

Ronald Gluck,
Assistant Section Chief, Environmental Enforcement Section, Environmental & Natural Resources Division, U.S. Department of Justice.

[FR Doc. 01-28359 Filed 11-9-01; 8:45 am]

BILLING CODE 4410-15-M